DEPARTMENT OF ENERGY

Federal Energy Regulatory Commission

Combined Notice of Filings #1

Take notice that the Commission received the following electric rate filings:

Docket Numbers: ER10-2212-001; ER10-2201-001; ER10-1997-002; ER10-1998-002; ER10-1931-003; ER13-2043-002; ER13-2044-002; ER13-291-001.

Applicants: South Jersey Energy Company, Marina Energy, LLC, South Jersey Energy ISO1, LLC, South Jersey Energy ISO2, LLC South Jersey Energy ISO3, LLC, South Jersey Energy ISO4, LLC, South Jersey Energy ISO5, LLC, EnergyMark, LLC.

Description: Notice of Change in Status of the South Jersey MBR sellers.

Filed Date: 9/30/13.

Accession Number: 20130930-5150.

Comments Due: 5 p.m. ET 10/21/13.

Docket Numbers: ER11-4636-004.

Applicants: Portland General Electric Company.

Description: Colstrip compliance filing errata to be effective 10/1/2013.

Filed Date: 9/30/13.

Accession Number: 20130930-5000.

Comments Due: 5 p.m. ET 10/21/13.

Docket Numbers: ER12-1265-006.

Applicants: Midcontinent Independent System Operator, Inc.

Description: 09-30-13 Supplemental 719 Compliance Filing to be effective 6/12/2012.

Filed Date: 9/30/13.

Accession Number: 20130930-5085.

Comments Due: 5 p.m. ET 10/21/13.

Docket Numbers: ER12-1266-005.

Applicants: Midcontinent Independent System Operator, Inc.

Description: Midcontinent Independent System Operator, Inc. submits 09-30-2013 Order 745 Compliance Filing to be effective 6/12/2012.

Filed Date: 9/30/13.

Accession Number: 20130930-5134.

Comments Due: 5 p.m. ET 10/21/13.

Docket Numbers: ER13-2467-001.

Applicants: Louisville Gas and Electric Company.

Description: Louisville Gas and Electric Company submits Sec 17 Errata to be effective 11/26/2013.

Filed Date: 9/30/13.

Accession Number: 20130930-5106.

Comments Due: 5 p.m. ET 10/21/13.

Docket Numbers: ER13-2473-000.

Applicants: PJM Interconnection, L.L.C.

Description: PJM Interconnection, L.L.C. submits Revisions to the PJM OATT Section 110.3 re Load Deliverability Impact Study to be effective 11/27/2013.

Filed Date: 09/27/2013.

Accession Number: 20130927-5158.

Comment Date: 5 p.m. ET 10/18/13.

Docket Numbers: ER13-2474-000.

Applicants: Steele Flats Wind Project, LLC.

Description: Steele Flats Wind Project, LLC submits Steele Flats Wind Project, LLC Application for Market-Based Rates to be effective 10/11/2013.

Filed Date: 09/27/2013.

Accession Number: 20130927-5179.

Comment Date: 5 p.m. ET 10/18/13.

Docket Numbers: ER13-2475-000.

Applicants: Kincaid Generation, L.L.C.

Description: Normal Filing to be effective 10/1/2013.

Filed Date: 9/30/13.

Accession Number: 20130930-5042.

Comments Due: 5 p.m. ET 10/21/13.

Docket Numbers: ER13-2476-000.

Applicants: Elwood Energy, LLC.

Description: Normal Filing to be effective 10/1/2013.

Filed Date: 9/30/13.

Accession Number: 20130930-5043.

Comments Due: 5 p.m. ET 10/21/13.

Docket Numbers: ER13-2477-000.

Applicants: Dominion Energy Brayton Point, LLC.

Description: Normal Filing to be effective 10/1/2013.

Filed Date: 9/30/13.

Accession Number: 20130930-5045.

Comments Due: 5 p.m. ET 10/21/13.

Docket Numbers: ER13-2478-000.

Applicants: California Independent System Operator Corporation.

Description: Transmission Access Charge Informational Filing of California Independent System Operator Corporation.

Filed Date: 09/27/2013.

Accession Number: 20130927-5221.

Comment Date: 5 p.m. ET 10/18/13.

Docket Numbers: ER13-2479-000.

Applicants: Southwestern Public Service Company.

Description: Southwestern Public Service Company submits 9-30-13_RS135-GSEC Op Proc to be effective 10/1/2013.

Filed Date: 9/30/13.

Accession Number: 20130930-5086.

Comments Due: 5 p.m. ET 10/21/13.

Docket Numbers: ER13-2480-000.

Applicants: Fairless Energy, LLC.

Description: Fairless Energy, LLC submits Compliance Filing—Chng of DF to DEMI Override Previous Filing to be effective 10/1/2013.

Filed Date: 9/30/13.

Accession Number: 20130930-5096.

Comments Due: 5 p.m. ET 10/21/13.

Docket Numbers: ER13-2481-000.

Applicants: Duke Energy Florida, Inc., Duke Energy Progress, Inc., Duke Energy Carolinas, LLC.

Description: Duke Energy Florida, Inc. submits tariff filing per 35.13(a)(2)(iii: OATT Name Change to be effective 7/3/2012.

Filed Date: 9/30/13.

Accession Number: 20130930-5161.

Comments Due: 5 p.m. ET 10/21/13.

Docket Numbers: ER13-2482-000.

Applicants: Arizona Public Service Company.

Description: Partial Cancellation of Arizona Public Service Company Rate Schedule No. 183—Reciprocal Transmission Service Agreement.

Filed Date: 9/30/13.

Accession Number: 20130930-5163.

Comments Due: 5 p.m. ET 10/21/13.

Docket Numbers: ER13-2483-000.

Applicants: Old Dominion Electric Cooperative.

Description: Old Dominion Electric Cooperative submits tariff filing per 35.13(a)(2)(iii: Volume No. 1 Rate Formula Revision to be effective 1/1/2014.

Filed Date: 9/30/13.

Accession Number: 20130930-5168.

Comments Due: 5 p.m. ET 10/21/13.

Take notice that the Commission received the following electric securities filings:.

Docket Numbers: ES13-52-000.

Applicants: Interstate Power and Light Company.

Description: Amendment to September 6, 2013 Application of Interstate Power and Light Company for Amendment of Original Application and Authorization to Issue Securities and Request for Waiver of Competitive Bidding Requirements.

Filed Date: 09/27/2013.

Accession Number: 20130927-5219.

Comment Date: 5 p.m. ET 10/7/13.

Docket Numbers: ES13-57-000.

Applicants: Georgia Power Company.

Description: Application of Georgia Power Company for authorization to issue securities under Section 204 of the Federal Power Act and request for exemption from competitive bidding requirements.

Filed Date: 9/30/13.

Accession Number: 20130930-5143.

Comments Due: 5 p.m. ET 10/21/13.

Take notice that the Commission received the following public utility holding company filings:

Docket Numbers: PH13-26-000.

Applicants: South Jersey Industries, Inc.

Description: South Jersey Industries, Inc. submits FERC-65-A and FERC 65 Notice of Material Change in Facts.

Filed Date: 9/30/13.

Accession Number: 20130930-5170.

Comments Due: 5 p.m. ET 10/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2013.
Nathaniel J. Davis, Sr.,
Deputy Secretary.

[FR Doc. 2013-24418 Filed 10-9-13; 8:45 am]

BILLING CODE 6717-01-P